DEPARTMENT OF TRANSPORTATION

National Highway Traffic Safety Administration

[Docket No. NHTSA-2016-0141; Notice 2]

Spartan Motors USA, Inc., Grant of Petition for Decision of Inconsequential Noncompliance

AGENCY: National Highway Traffic Safety Administration (NHTSA), Department of Transportation (DOT).

ACTION: Grant of petition.

SUMMARY: Spartan Motors USA, Inc. (Spartan), has determined that certain model year (MY) 2017 Spartan Emergency Response Metro Star motor vehicles do not fully comply with Federal Motor Vehicle Safety Standard (FMVSS) No. 120, Tire selection and rims and motor home/recreation vehicle trailer load carrying capacity information for motor vehicles with a GVWR of more than 4,536 kilograms (10,000 pounds). Spartan filed a noncompliance information report dated December 6, 2016. Spartan also petitioned NHTSA on January 4, 2017, for a decision that the subject noncompliance is inconsequential as it relates to motor vehicle safety.

ADDRESSES: For further information on this decision contact Kerrin Bressant, Office of Vehicle Safety Compliance, the National Highway Traffic Safety Administration (NHTSA), telephone (202) 366-1110, facsimile (202) 366-5930.

SUPPLEMENTARY INFORMATION:

I. Overview: Spartan Motors USA, Inc. (Spartan), has determined that certain model year (MY) 2017 Spartan Emergency Response Metro Star motor vehicles do not fully comply with paragraph S5.2(b) of Federal Motor Vehicle Safety Standard (FMVSS) No. 120, Tire selection and rims and motor home/recreation vehicle trailer load carrying capacity information for motor vehicles with a GVWR of more than 4,536 kilograms (10,000 pounds). Spartan filed a noncompliance report dated December 6, 2016, pursuant to 49 CFR part 573, Defect and Noncompliance Responsibility and Reports. Spartan also petitioned NHTSA on January 4, 2017, pursuant to 49 U.S.C. 30118(d) and 30120(h) and 49 CFR part 556, for an exemption from the notification and remedy requirements of 49 U.S.C. Chapter 301 on the basis that this noncompliance is inconsequential as it relates to motor vehicle safety.

Notice of receipt of the petition was published, with a 30-day public comment period on April 11, 2017, in the Federal Register (82 FR 17520). No comments were received. To view the petition and all supporting documents log onto the Federal Docket Management System (FDMS) Web page at: http://www.regulations.gov/. Then follow the online search instruction to locate docket number “NHTSA-2016-0141.”

II. Vehicles Involved: Approximately 19 MY 2017 Spartan Emergency Response Metro Star motor vehicles manufactured between September 6, 2016, and October 24, 2016, are potentially involved.

III. Noncompliance: Spartan explains that the noncompliance is that the wheels on the subject vehicles incorrectly identify the rim size as 24.5″ x 8.25″ instead of 22.5″ x 8.25″, and therefore do not meet the requirements of paragraph S5.2(b) of FMVSS No. 120.

IV. Rule Text: paragraph S5.2 of FMVSS No. 120 states:

S5.2 Rim marking. Each rim or, at the option of the manufacturer in the case of a single-piece wheel, wheel disc shall be marked with the information listed in paragraphs (a) through (e) of this paragraph, in lettering not less than 3 millimeters high, impressed to a depth or, at the option of the manufacturer, embossed to a height of not less than 0.125 millimeters . . .

(b) The rim size designation, and in case of multipiece rims, the rim type designation. For example: 20 x 5.50, or 20 x 5.5.

V. Summary of Spartan's Petition: Spartan described the subject noncompliance and stated its belief that the noncompliance is inconsequential as it relates to motor vehicle safety.

In support of its petition, Spartan provided the following: Chassis cabs affected by this condition are manufactured in two or more stages. While in general, Spartan is the incomplete vehicle manufacturer, in this case, Spartan provides a label that contains the requirements identified in 49 CFR 567.5(a)(2)(iv), which states that a label must be affixed to an incomplete vehicle that contains the “GROSS AXLE WEIGHT RATING” or “GVWR”, followed by the appropriate value in kilograms and (pounds) for each axle, identified in order from front to rear (e.g., front, first intermediate, second intermediate, rear). The ratings for any consecutive axles having identical gross axle weight ratings when equipped with tires having the same tire size designation may be stated as a single value, with the label indicating to which axles the ratings apply. Similar information must be included in the incomplete vehicle document or IVD that must be furnished by the incomplete vehicle manufacturer, as required by 49 CFR 568.4(a)(5).

While the actual wheel stamping may be 24.5, the physical size (outside diameter) is 22.5. If a service provider were to reference the rim size of the incorrectly stamped rim, and attempt to install a tire with an inside diameter of 24.5, it would be too large for the 22.5 size rim and thus not fit. Given the label being provided and the construction details sheet provided in accordance with NFPA® 1901 Standard for Automotive Fire Apparatus 2016 edition, Spartan believes the noncompliance is inconsequential as it relates to motor vehicle safety, and requests that their petition to be exempted from providing notification of the noncompliance, as required by 49 U.S.C. 30118, and a remedy for the noncompliance, as required by 49 U.S.C. 30120, should be granted.

To view Spartan's petition analyses in its entirety you can visit https://www.regulations.gov by following the online instructions for accessing the dockets and by using the docket ID number for this petition shown in the heading of this notice.

No comments were received during the receipt notice comment period.

NHTSA Decision

NHTSA Analysis: Spartan Motors USA, Inc. (Spartan) explained that as many as 19 emergency response chassis cabs may be equipped with rims that were inadvertently stamped with a 24.5 inch diameter x 8.25 inch width marking instead of 22.5 inch diameter x 8.25 inch width marking which is the actual size of the rim. Further, while the actual diameter rim stamping may be 24.5 inches, the physical size (outside diameter) is actually 22.5 inches. If a service provider were to reference the stamped rim size and attempted to install a tire with an inside diameter of 24.5 inches, the tire inside diameter would be too large for the rim diameter and the two could not be fitted together.

In this case, the agency agrees that the noncompliance is inconsequential to motor vehicle safety. As stated by Spartan, if a service provider tried to mount a 24.5 diameter tire on a 22.5 diameter rim it would be unsuccessful. The inability to mount the incorrect tire on the rim precludes one's ability to actually drive with an incorrect tire-rim combination on public roadways. Furthermore, FMVSS No. 120 paragraph S5.3 requires vehicles be labeled with proper tire/rim size combinations. This additional information is available to assist the vehicle operator with tire/rim size information.

NHTSA's Decision: In consideration of the foregoing, NHTSA has decided that the petitioner has met its burden of persuasion that the noncompliance at issue is inconsequential to motor vehicle safety. Accordingly, Spartan's petition is hereby granted, and the petitioner is exempted from the obligation of providing notification of, and a remedy for, the noncompliance.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, this decision only applies to the subject motorcycles that Spartan no longer controlled at the time it determined that the noncompliance existed. However, the granting of this petition does not relieve vehicle distributors and dealers of the prohibitions on the sale, offer for sale, or introduction or delivery for introduction into interstate commerce of the noncompliant vehicles under their control after Spartan notified them that the subject noncompliance existed.

Authority: (49 U.S.C. 30118, 30120: delegations of authority at 49 CFR 1.95 and 501.8).

Jeffrey M. Giuseppe,
Director, Office of Vehicle Safety Compliance.

[FR Doc. 2017-13083 Filed 6-22-17; 8:45 am]

BILLING CODE 4910-59-P